DEPARTMENT OF TRANSPORTATION

Federal Railroad Administration

Solicitation of Applications and Notice of Funding Availability for the FRA Railroad System Issues Research and Development Program

AGENCY: Federal Railroad Administration (FRA), Department of Transportation (DOT).

ACTION: Notice of funding availability; solicitation for applications.

SUMMARY: Under this Notice, the FRA is soliciting applications from interested and responsible parties for two grants: (1) To conduct a Locomotive Biofuel Study, and (2) to conduct a Study of the Use of Bio-based Technologies (Lubricants) that can be used in locomotives, rolling stock and other rail equipment.

DATES: FRA will accept applications for these grant opportunities until June 7, 2010.

ADDRESSES: Applications must be submitted electronically to http://www.grants.gov (“Grants.gov”). Grants.gov allows organizations electronically to find and apply for competitive grant opportunities from all Federal grant-making agencies. Any entity wishing to submit an application pursuant to this notice should immediately initiate the process of registering with Grants.gov at http://www.grants.gov. For application materials that an applicant is unable to submit via Grants.gov, applicants may submit an original and two (2) copies to the Federal Railroad Administration at the following address: Federal Railroad Administration, Attention: Melissa Shurland, Office of Research and Development, Mail Stop 20, Room W36-429, 1200 New Jersey Avenue, SE., Washington, DC 20590. Due to delays caused by enhanced screening of mail delivered via the U.S. Postal Service, applicants are encouraged to use other means to assure timely receipt of materials.

FOR FURTHER INFORMATION CONTACT: Melissa Shurland, Office of Research and Development, Federal Railroad Administration, 1200 New Jersey Avenue, SE., Washington, DC 20590; Phone: (202) 493-1316 or Jennifer Capps, Grants Officer, Office of Acquisition and Grants Services (RAD-50), Federal Railroad Administration, 1200 New Jersey Avenue, SE., Washington, DC 20590; Phone: (202) 493-0112.

SUPPLEMENTARY INFORMATION: Title IV, Section 404 of the Passenger Rail Investment and Improvement Act, 2008 (Division B of Pub. L. 110-432) authorized the FRA, in consultation with the Secretary of Energy and Administrator of the Environmental Protection Agency, to conduct a “Locomotive Biofuel Study.” This study will focus on determining the extent to which freight railroads, Amtrak, and other passenger rail operators could use biofuel blends to power locomotives and other vehicles that can operate on diesel fuel, as appropriate. Additionally, Section 405 of the Passenger Rail Investment and Improvement Act, 2008 (Division B of Pub. L.110-432) authorized the FRA to conduct a “Study of the Use of Bio-based Technologies.” The study will focus on the feasibility of using readily biodegradable lubricants for freight and passenger railroad locomotives, rolling stock, or other equipment. The two grants, “Locomotive Biofuel Study” and the “Study of the Use of Bio-based Technologies,” together, will be supported with a total of up to $700,000 of Federal funds provided to FRA as part of the Transportation, Housing and Urban Development, and Related Agencies Appropriations Act, 2010 (Division A of Pub. L. 111-117 (December 16, 2009)). Eligible projects will include dynamic testing of locomotives, rolling stock and other rail equipment, with various biofuel blends as fuel; or bio-based lubricants being utilized in the appropriate equipment components to verify the effectiveness of the fuel or lubricant, in comparison to their equivalent petroleum-based products. FRA anticipates that no further public notice will be made with respect to selecting grantees under this program.

Purpose: The volatility of the price of petroleum-based products in recent years and the negative impact of their use on the environment has caused end-users to consider alternatives to these products. Currently in the railroad industry petroleum-based fuel and lubricants are used in various components of rail equipment and rolling stock, such as locomotive engines, equipment gear cases and housings. Fuel and lubricants that are bio-based come from a renewable source, may be environmentally benign, and can help reduce the railroad industry's dependence on imported oil. The FRA wishes to conduct the two studies on the feasibility of using various biofuel blends and bio-based lubricants in railroad equipment.

One study will test the feasibility of using biofuel blends as locomotive engine fuel. For the biofuel study, FRA wishes to consider (1) the energy intensity of various biofuel blends compared to diesel fuel; (2) environmental and energy effects of using various biofuel blends compared to diesel fuel, including emission effects; (3) the cost of purchasing biofuel blends; (4) whether sufficient biofuel is readily available; (5) any public benefits derived from the use of such fuels; and (6) the effect of biofuel use on locomotive and other vehicle performance and warranty specifications. Locomotive engine performance and emissions shall be determined through locomotive testing, using various biofuel blends and diesel fuel. This research shall be done so that recommendations can be made for premium locomotive biofuel blends.

The second study will focus on testing the feasibility of using bio-based lubricants in locomotive, rolling stock and other equipment. This study shall consist of the following: (1) An analysis of the potential use of soy-based grease and soy-based hydraulic fluids to perform according to railroad industry standards; (2) an analysis of the potential use of other readily biodegradable lubricants to perform according to railroad industry standards; (3) a comparison of the health and safety of petroleum-based lubricants with bio-based lubricants, which shall include an analysis of fire safety; (4) a comparison of the environmental impact of petroleum-based lubricants with bio-based lubricants, which shall include the rate and effects of biodegradability; (5) a comparison of the performance of the bio-based lubricant in comparison to petroleum-based lubricants; and (6) a study of the effects of the bio-based lubricants on railroad equipment components in comparison to petroleum-based lubricants.

Authority: The authority for the research can be found in the Passenger Rail Investment and Improvement Act, 2008, (Division B of Pub. L. 110-432, (October 16, 2008)).

Funding: Pursuant to the Transportation, Housing and Urban Development, and Related Agencies Appropriations Act, 2010, (Division A of Pub. L. 111-117 (December 16, 2009)) $3,000,000 is available for the railroad system issues research and development program, and the Act authorizes FRA to engage in research, development and demonstration activities relating to railroad system safety, performance-based regulations, railroad systems and infrastructure security, railroad environmental issues, and locomotive research and development. Up to $700,000 of the railroad system issues research and development program funds will be used to support the studies of the feasibility of using biofuel blends and bio-based lubricants in locomotives, rolling stock or other equipment. The funding provided under this grant will be made available to grantees on a reimbursement basis. It is anticipated that the available funding could support the projects proposed by multiple applicants. FRA may choose to award a grant or grants within the available funds in any amount. Funding made available through a grant provided under this program, together with funding from other sources that is committed by a grantee as part of a grant agreement, must be sufficient to complete the funded project.

Schedule for Locomotive Biofuel Study and the Study of the Use of Bio-based Technologies: FRA will begin accepting grant applications immediately. Applicants must specify the specific grant for which they are applying, i.e. “Locomotive Biofuel Study,” or the “Study of the Use of Bio-based Technologies.” Applications must be submitted by Monday, June 7, 2010. Due to the limited funding available under this program: (1) Applicants are encouraged to submit their applications at the earliest date practicable in order to maximize the consideration of their application in the competition; and (2) FRA may request that an applicant submit a revised application reflecting a refined scope of work and budget. FRA anticipates making the first award(s) pursuant to this notice during FY 2010.

Eligible Participants: For the locomotive biofuel study, any responsible entity with knowledge of biofuel blends and their applicable use as fuel for locomotives, and the ability to determine and/or analyze the energy content, specification and chemical properties of biofuel, is eligible to apply. Eligible participants must show their ability to conduct dynamic tests of locomotive to acquire fuel consumption, engine wear, and emissions, of various biofuel blends.

Section 405 provides that FRA work with an agricultural-based lubricant testing facility or facilities to complete the study of the use of bio-based lubricants. Eligible participants for the bio-based lubricant study must be knowledgeable and experienced in research, development and testing of bio-based lubricants, knowledge of petroleum-based lubricant use in railroad, and the ability to conduct accurate analyses of biodegradability, and the health and safety impact, including fire safety of lubricants. Additionally, the applicant must show ability to a conduct dynamic test of the bio-based lubricants in railroad equipment.

Dynamic testing of the biofuel blends and bio-based lubricants can be accomplished in collaboration with a third party, but any such third party must be identified in the grant application proposed statement of work.

Eligible Projects: Eligible projects must be for the primary benefit of determining the feasibility of utilizing biofuel blends or bio-based lubricants in locomotive, rolling stock and other rail equipment. Only new projects will be eligible; projects that have either commenced before the time of award or have been completed will not be considered. Matching funding must be in the form of new financial commitments toward the proposed project by the applicant and/or its partners.

Selection Criteria: The following will be considered to be positive selection factors in evaluating applications for grants under this program: (1) The ability of the proposed project to result directly in evaluating the effectiveness of biofuel blends and bio-based lubricant as an alternative to petroleum-based fuels and lubricants, including, but not limited to, testing and analyses of the biofuel blends or bio-based lubricants to perform in accordance with railroad industry standards; (2) comparison of biofuel blends or bio-based lubricant with petroleum-based lubricants in relation to their environmental, health and safety impact, and the effects of the biofuel blends or bio-based lubricants on the equipment parts and components; (3) the ability to conduct dynamic testing of the biofuel blends or bio-based lubricant in railroad equipment in controlled environment and/or revenue service conditions; and (4) the ability to provide matching funds or in-kind contributions, which can be provided by a third party; however, the grantee is responsible for ensuring their availability.

Requirements for Grant Applications: The following points describe the minimum content which will be required in grant applications. These requirements may be satisfied through a narrative statement submitted by the applicant, supported by spreadsheet documents, tables, drawings, and other materials, as appropriate. Each grant application will: (1) Designate a point of contact for the applicant, including phone number, mailing address and e-mail address. (2) Include a complete Standard Form 424, “Application for Federal Assistance,” and, as applicable, Standard Form 424B, “Assurances—Non-Construction Programs.” Also include signed copies of FRA's Additional Assurances and Certifications, available at http://www.fra.dot.gov/downloads/admin/assurancesandcertifications.pdf. (3) Identify and provide background information on the bio-based lubricant technology, its application(s), and benefits. (4) Define the scope of work for the proposed project and the anticipated project schedule. Describe the proposed project's physical location (as applicable). (5) Present a detailed budget for the proposed project. At a minimum, the budget should separate total cost of the project into the following categories: (a) Direct Costs (such as labor, materials, equipment and/or procurement fees, engineering fees, testing facilities fees, actual testing fees, and inspection fees); (b) Other Direct Costs (such as travel); and (c) General and Administrative Costs.

Format: Excluding spreadsheets, drawings, and tables, the narrative statement for grant applications may not exceed fifty pages. All application materials should be submitted as attachments through Grants.Gov. Spreadsheets consisting of budget or financial information should be submitted via Grants.Gov as Microsoft Excel (or compatible) documents.

Issued in Washington, DC, on May 7, 2010.
Paul Nissenbaum,
Acting Associate Administrator, Railroad Policy and Development, Federal Railroad Administration.

[FR Doc. 2010-11510 Filed 5-12-10; 8:45 am]

BILLING CODE 4910-06-P